DEPARTMENT OF HEALTH AND HUMAN SERVICES

Centers for Disease Control and Prevention

Advisory Committee to the Director, Centers for Disease Control and Prevention (ACD, CDC)

In accordance with section 10(a)(2) of the Federal Advisory Committee Act (Pub. L. 92-463), the CDC announces the following meeting of the aforementioned committee:

Time and Date: 3 p.m.-4:30 p.m., February 24, 2009.

Place: The teleconference call will originate at the CDC. For details on accessing the teleconference is located in the supplementary information.

Status: Open to the public, teleconference access limited only by availability of telephone ports.

Purpose: The committee will provide advice to the CDC Director on strategic and other broad issues facing CDC.

Matters to be Discussed: The Advisory Committee to the Director will discuss and decide on recommendations from its Ethics Subcommittee, National Biosurveillance Advisory Subcommittee, and Budget Workgroup. The Ethics Subcommittee will make recommendations on using travel restrictions for individuals with infectious illnesses. The Ethics Subcommittee will also discuss a draft charge that clearly articulates the ethical foundation for focusing on health protection activities and examining the social determinants of health. The National Biosurveillance Advisory Subcommittee will seek approval on recommendations for latitude to share specific points with key members of the new administration. The Budget Workgroup will provide recommendations around principles for change, in terms of the budget and the budget structure and process for the CDC.

Agenda items are subject to change as priorities dictate.

Supplementary Information: This conference call is scheduled to begin at 3 p.m. Eastern Standard Time. To participate in the teleconference, please dial 1 (888) 323-9787 and enter conference code 4735949.

Contact Person for More Information: Brad Perkins, M.D., M.B.A., Executive Officer, ACD, CDC, 1600 Clifton Road, NE., M/S D-14, Atlanta, Georgia 30333. Telephone: (404) 639-7000.

The Director, Management Analysis and Services office has been delegated the authority to sign Federal Register notices pertaining to announcements of meetings and other committee management activities for both the CDC and the Agency for Toxic Substances and Disease Registry.

Dated: February 3, 2009.
Elaine L. Baker,
Director, Management Analysis and Services Office, Centers for Disease Control and Prevention (CDC).

[FR Doc. E9-2805 Filed 2-9-09; 8:45 am]

BILLING CODE 4163-18-P